UNIFIED CARRIER REGISTRATION PLAN

Sunshine Act Meeting Notice; Unified Carrier Registration Plan Board of Directors Meeting

TIME AND DATE: January 28, 2020, from 10:00 a.m. to 1:00 p.m., Central time.

PLACE: Drury Inn & Suites Riverwalk Hotel, 201 N St. Mary's Street, San Antonio, Texas. This meeting will be accessible via conference call. Any interested person may call 1-866-210-1669, passcode 5253902# to participate in this meeting.

STATUS: This meeting will be open to the public.

MATTERS TO BE CONSIDERED: The Unified Carrier Registration Plan Board of Directors (the “Board”) will continue its work in developing and implementing the Unified Carrier Registration Plan and Agreement. The subject matter of the meeting will include:

Agenda

Open to the Public

I. Welcome and Call to Order—UCR Board Chair

The UCR Board Chair will welcome attendees, call the meeting to order, call roll for the Board, and facilitate self-introductions.

II. Verification of Meeting Notice—UCR Executive Director

The UCR Executive Director will verify the publication of the meeting notice on the UCR website and in the Federal Register.

III. Review and Approval of Board Agenda and Setting of Ground Rules—UCR Board Chair

For Discussion and Possible Action

Agenda will be reviewed and the Board will consider adoption.

Ground Rules:

➢ Board action only to be taken in designated areas on agenda

➢ Please MUTE your phone

➢ Please do NOT place the call on HOLD

IV. Approval of Minutes of the December 5, 2019 UCR Board Meeting—UCR Board Chair

For Discussion and Possible Action

• Minutes of the December 5, 2019 Board meeting will be reviewed. The Board will consider action to approve.

V. Report of FMCSA—FMCSA Representative

FMCSA will provide a report on any relevant activity or rulemaking, including any pending appointments, as well as any update available regarding a final rulemaking on 2020 UCR fees.

VI. Enforcement Delay—UCR Executive Director

For Discussion and Possible Action

The UCR Executive Director will lead a discussion on a recommended enforcement date for the 2020 Registration Year. The Board may act to recommend to law enforcement a 2020 Registration Year enforcement date.

VII. Data Event Update—Chief Legal Officer

The Chief Legal Officer will provide an update to the Board on the action items approved at its August 1, 2019 meeting related to the March 2019 data event.

VIII. UCR Handbook Amendments—Vice Chair

The Board will consider and may act on proposed amendments to the UCR Handbook concerning intrastate DOT numbers and the UCR fees for the 2020 registration year.

IX. UCR Plan Website Agreement—Kellen & Seikosoft

For Discussion and Possible Action

The Board will consider and may act upon a proposed UCR Plan website Agreement with either Kellen or Seikosoft. Each vendor will have approximately 10 minutes to present and the Board will have time to ask questions.

X. Subcommittee Reports

Audit Subcommittee—Subcommittee Chair

A. State Compliance Review Results—UCR Depository Manager

For Discussion and Possible Action

The UCR Depository Manager will report on key findings from recently completed state compliance reviews. The Board may act to adopt recommended corrective actions required by the states in areas deemed not in compliance with UCR policy.

B. State Audit Performance Standards—UCR Depository Manager

For Discussion and Possible Action

The UCR Depository Manager will review draft state audit performance standards. The Board may act to adopt state audit performance standards.

C. Report on 2020 State Compliance Reviews—UCR Depository Manager

The UCR Depository Manager will report on plans for conducting state compliance reviews in 2020 and answer questions.

D. Communication Campaigns—Subcommittee Chair

For Discussion and Possible Action

The Subcommittee Chair will lead a discussion on the need for UCR to execute carrier solicitations for states currently running limited or no campaigns of their own. Next, the Subcommittee Chair will discuss the need for UCR to execute communications to carriers, identified through roadside inspections to be operating in interstate commerce, but identified in MCMIS as “inactive” or “intrastate.” The Board may act to adopt the proposals.

E. UCR State-Carrier Audit Methodology—Subcommittee Chair

For Discussion and Possible Action

The Board will consider proposed amendments, related to state carrier audits, for the UCR Agreement and Handbook in order to align both guidance documents with current practice and may act to adopt.

F. Report on the Depository Audit for 2017 and 2018—UCR Depository Manager

The UCR Depository Manager will report on results from the 2017 and 2018 Depository audits and answer questions.

G. Report on the Depository Financial Statement Audit for 2019—UCR Depository Manager

The UCR Depository Manager will report on the status of the Depository financial audit and answer questions. The Board may act to adopt this proposal.

H. Potential of Additional Funding for DSL—Subcommittee Chair

For Discussion and Possible Action

The Subcommittee Chair will lead a discussion on a proposal for the UCR Board to fund an additional one-half Full Time Equivalent for DSL for the purpose of continuing to process prior year Focused Anomalies Reviews (FARs). The Board may act to adopt this proposal.

Finance Subcommittee—Subcommittee Chair

A. Initial 2020 Distributions to States—UCR Depository Manager

For Discussion and Possible Action

The Board will review proposed plans for initial distributions to states for 2020 registration year and reducing excess fees from certain past years by including these sums in the distributions. The Board may act to adopt.

B. Certificates of Deposit—UCR Depository Manager

For Discussion and Possible Action

The UCR Depository Manager will provide a report on activities required to redeem certificates of deposit at the Bank of North Dakota scheduled to mature on February 5, 2020 as well as discuss reinvestment of the proceeds from the matured CDs. The Board may act to adopt the proposal.

C. Board Insurance—UCR Depository Manager

For Discussion and Possible Action

The Board will hear a report on plans to procure insurance for the UCR Board and Officers (directors and officers, cybersecurity, general liability). The Board may act to adopt the proposal.

D. Financial & Unbudgeted Expense Reserves—UCR Depository Manager

The UCR Depository Manager will report on the financial and unbudgeted expense reserve fund.

E. 2019 Administrative Expenses—UCR Depository Manager

The UCR Depository Manager will provide a report on 2019 administrative expenses.

Education and Training Subcommittee—Subcommittee Chair

A. Report on Plans To Launch Training Modules—UCR Operations Manager

The UCR Operations Manager will report on plans to launch an initial wave of training modules by June 2020.

B. Mandatory Training for States—Subcommittee Chair

For Discussion and Possible Action

The Subcommittee Chair will lead a discussion on a proposed policy requiring all participating states to engage in UCR trainings once available. Specifically, the proposed policy would require at least one state representative to participate in any new remote trainings (e.g., videos, webinars) within 30 days of its release, as well as attend any new live/in-person training when scheduled. The Board may act to adopt the policy.

C. Travel Reimbursement for Training Attendees—Subcommittee Chair

For Discussion and Possible Action

The Subcommittee Chair will lead a discussion on a proposed policy stating that UCR will reimburse one attendee from each state for reasonable travel expenses incurred for attending any mandatory UCR trainings. The Board may act to adopt the policy.

XI. Updates Concerning UCR Legislation—Board Chair

The UCR Board Chair will call for any updates regarding UCR legislation since the last Board meeting.

XII. Contractor Reports—UCR Executive Director

• UCR Executive Director

The UCR Executive Director will provide a report covering recent activity for the UCR Program.

• UCR Administrator (Kellen)

The UCR Administrator will provide their management report covering recent activity for the Depository, Operations, and Communications.

• DSL Transportation Services, Inc.

DSL will report on the latest data on state collections based on reporting from the Focused Anomalies Review (FARs) program.

• Seikosoft

Seikosoft will provide an update on recent/new activity related to the National Registration System.

XIII. Other Business—Board Chair

The UCR Board Chair will call for any business, old or new, from the floor.

XIV. Adjournment—Board Chair

The UCR Board Chair will adjourn the meeting.

This agenda will be available no later than 5:00 p.m. Eastern time, January 20, 2020 at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2020-00988 Filed 1-16-20; 4:15 pm]

BILLING CODE 4910-YL-P